DEPARTMENT OF ENERGY

Federal Energy Regulatory Commission

[Docket Nos. CP17-66-000; CP17-67-000]

Notice of Schedule for Environmental Review of the Venture Global Plaquemines LNG, LLC and Venture Global Gator Express, LLC Plaquemines LNG and Gator Express Pipeline Project

On February 28, 2017, Venture Global Plaquemines LNG, LLC (Plaquemines LNG) filed an application in Docket No. CP17-66-000 requesting authorization pursuant to Section 3(a) of the Natural Gas Act (NGA) to construct and operate liquefied natural gas (LNG) export facilities. On the same day, Venture Global Gator Express, LLC (Gator Express Pipeline) filed an application in Docket No. CP17-67-000, requesting a Certificate of Public Convenience and Necessity pursuant to Section 7(c) of the NGA to construct, operate, and maintain certain natural gas pipeline facilities. Combined, the proposed project is known as the Plaquemines LNG and Gator Express Pipeline Project (Project) and would provide gas and processing to produce up to 20.0 million tonnes per annum of LNG for export. On July 21, 2016, in Order No. 3866, the U.S. Department of Energy, Office of Fossil Energy, granted to Plaquemines LNG authorization to export LNG to Free Trade Agreement nations.

On March 13, 2017, the Federal Energy Regulatory Commission (FERC or Commission) issued its Notice of Application for the Project. Among other things, that notice alerted other agencies issuing federal authorizations of the requirement to complete all necessary reviews and to reach a final decision on the request for a federal authorization within 90 days of the date of issuance of the Commission staff's final Environmental Impact Statement (EIS) for the Plaquemines LNG and Gator Express Pipeline Project. This instant notice identifies the FERC staff's planned schedule for completion of the final EIS for the Project, which is based on an issuance of the draft EIS in November 2018. The forecasted schedule for both the draft and final EIS is based upon Plaquemines LNG and Gator Express Pipeline providing complete and timely responses to any future data requests. In addition, the schedule assumes that the cooperating agencies will provide input on their areas of responsibility on a timely basis.

Schedule for Environmental Review

Issuance of Notice of Availability of the final EIS—May 3, 2019

90-Day Federal Authorization Decision Deadline—August 1, 2019

If a schedule change becomes necessary for the final EIS, an additional notice will be provided so that the relevant agencies are kept informed of the Project's progress.

Project Description

Plaquemines LNG plans to construct an LNG terminal on a 632-acre site on the Mississippi River in Plaquemines Parish, Louisiana. Gator Express Pipeline plans to construct two parallel 42-inch-diameter gas lateral pipelines totaling approximately 26.8 miles, also in Plaquemines Parish, Louisiana. These pipelines would connect the LNG terminal to the existing interstate natural gas grid. Each pipeline would have a nominal gas supply capability of 1.97 standard billion cubic feet per day. The Project would consist of a liquefaction plant, aboveground storage tanks, marine loading berthing docks, a utility dock, and air-cooled electric power generation facilities, in addition to the two lateral pipelines.

Background

On July 2, 2015, the Commission staff granted Plaquemines LNG and Gator Express Pipeline's request to use the FERC's pre-filing environmental review process and assigned the Plaquemines LNG and Gator Express Pipeline Project Docket No. PF15-27-000. On October 5, 2015, the Commission issued a Notice of Intent to Prepare an Environmental Impact Statement for the Proposed Plaquemines LNG and Gator Express Pipeline Project, Request for Comments on Environmental Issues, and Notice of Public Scoping Meetings (NOI). On September 14, 2016, the FERC sent a letter to potentially-affected landowners informing them of changes that Plaquemines LNG and Gator Express Pipeline had made to the planned pipelines since the initiation of the pre-filing process.

The NOI and pipeline modification letter were issued during the pre-filing review of the Project in Docket No. PF15-27-000 was sent to federal, state, and local government agencies; elected officials; affected landowners; environmental and public interest groups; Native American tribes and regional organizations; commentors and other interested parties; and local libraries and newspapers. Major issues raised during scoping include potential impacts to the river floodway and the flood protection levee from terminal construction, construction and wetland fill in the Coastal Zone, saltwater intrusion from marsh pipeline construction, impacts on productivity of Barataria Bay estuary, greenhouse gas emissions from project operation, and noise and light pollution impacts on nearby sensitive areas.

The U.S. Army Corps of Engineers, U.S. Coast Guard, U.S. Department of Energy, U.S. Department of Transportation Pipeline and Hazardous Materials Safety Administration, and U.S. Environmental Protection Agency are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-66 and CP17-67), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19394 Filed 9-6-18; 8:45 am]

BILLING CODE 6717-01-P